FEDERAL MINE SAFETY AND HEALTH REVIEW COMMISSION

Sunshine Act Meeting

TIME AND DATE: 10:00 a.m., Thursday, April 8, 2021.

PLACE: This meeting will be conducted through a videoconference involving all Commissioners. Any person wishing to listen to the proceeding may call the number listed below.

STATUS: Open.

MATTERS TO BE CONSIDERED: The Commission will consider and act upon the following in open session: Secretary of Labor v. Peabody Midwest Mining, LLC, Docket No. LAKE 2017-0450 (Questions to be considered include justiciability issues regarding the application of the “significant and substantial” test in this case.)

Any person attending this meeting who requires special accessibility features and/or auxiliary aids, such as sign language interpreters, must inform the Commission in advance of those needs. Subject to 29 CFR 2706.150(a)(3) and 2706.160(d).

CONTACT PERSON FOR MORE INFORMATION: Emogene Johnson, (202) 434-9935/(202) 708-9300 for TDD Relay/1-800-877-8339 for toll free.

Phone Number for Listening to Meeting: 1-(866) 236-7472.

Passcode: 678-100.

Authority: 5 U.S.C. 552b.

Dated: March 24, 2021.
Sarah L. Stewart,
Deputy General Counsel.

[FR Doc. 2021-06427 Filed 3-24-21; 4:15 pm]

BILLING CODE 6735-01-P